DEPARTMENT OF THE INTERIOR

Geological Survey

Agency Information Collection Activities: Submitted for Office of Management and Budget (OMB) Review; Comment Request

AGENCY: U.S. Geological Survey (USGS).

ACTION: Notice of a new information collection.

SUMMARY: To comply with the Paperwork Reduction Act of 1995 (PRA), we are notifying the public that we have submitted to the Office of Management and Budget (OMB) an information collection request (ICR) for approval of the paperwork requirements for the National Coal Resources Data System (NCRDS) competitive grant program. This notice provides the public an opportunity to comment on the paperwork burden of this project.

DATES: You must submit comments on or before November 12, 2009.

ADDRESSES: Please submit written comments on this information collection directly to the Office of Management and Budget (OMB) Office of Information and Regulatory Affairs, Attention: Desk Officer for the Department of the Interior via e-mail to OIRA_DOCKET@omb.eop.gov or fax at 202-395-5806; and identify your submission with Information Collection Number 1028-new, NCRDS.

Please also submit a copy of your written comments to Phadrea Ponds, USGS Information Collection Clearance Officer, 2150-C Center Avenue, Fort Collins, CO 80525 (mail); (970) 226-9230 (fax); or pponds@usgs.gov (e-mail). Please reference information collection 1028-new, NCRDS in the subject line.

FOR FURTHER INFORMATION CONTACT: Susan Tewalt by mail at U.S. Geological Survey, National Center, 12201 Sunrise Valley Drive, Reston, VA 20192 or by telephone at 703-648-6437.

SUPPLEMENTARY INFORMATION:

Abstract

The primary objective of the NCRDS is to advance the understanding of the energy endowment of the United States (U.S.) by gathering and organizing digital geologic information related to coal, coalbed gas, shale gas and other energy resources. The NCRDS of the USGS will issue a call for proposals to support researchers that can provide geologic data to support the National Coal Resources Data System and other solid-fuel energy assessment projects being conducted by the Energy Resources Program. Additional data is needed to data to support regional or national assessments concerning coal and coal bed gas occurrences. Requesting external cooperation is the very best way for NCRDS to collect energy data and perform research on the characterization of coals and organic-rich shale, and obtain other information (including geophysical or seismic data, sample collection for generation of thermal maturity data) that can be used in solid-fuel resource assessments. Data submitted to NCRDS by external cooperators will constitute more than two-thirds of the USGS point-source stratigraphic database (USTRAT) on coal occurrence. In 2010, NCRDS plans to support 26 projects in 23 States. The program will be conducted under various authorities, including 30 U.S.C. 208-1, 42 U.S.C. 15801, and 43 U.S.C. 31 et seq. This collection will consist of applications, proposals and reports (annual and final).

I. Data

OMB Control Number: 1028-NEW.

Title: Energy Cooperatives to Support the National Coal Resources Data System (NCRDS).

Respondent Obligation: Required to obtain or retain benefits.

Frequency of Collection: One time every 5 years for applications and final reports; annually for progress reports.

Affected Public: Individuals; State, local and tribal governments; State Geological Surveys, universities, and businesses.

Annual Burden Hours: 300.

Estimated Annual Number of Respondents: 26.

Estimated Annual Number of Responses: 35 (9 applications 26 reports).

Estimated Annual Reporting and Recordkeeping “Non-Hour Cost”: None.

III. Request for Comments

On May 14, 2009, we published a Federal Register notice (74 FR 22760) announcing that we would submit this information collection to OMB for approval. The notice provided a 60-day comment period ending on July 13, 2009. We did not receive any comments in response to that notice.

We again invite comments concerning this ICR on: (a) Whether the proposed collection of information is necessary for the agency to perform its duties, including whether the information is useful; (b) the accuracy of the agency's estimate of the burden of the proposed collection of information; (c) ways to enhance the quality, usefulness, and clarity of the information to be collected; and (d) ways to minimize the burden on the respondents, including the use of automated collection techniques or other forms of information technology.

Comments that you submit in response to this notice are a matter of public record. Before including your address, phone number, e-mail address or other personal identifying information in your comment, you should be aware that your entire comment including your personal identifying information, may be made publicly available at anytime. While you can ask us in your comment to withhold your personal identifying information from public review, we cannot guarantee that we will be able to do so.

USGS Information Collection Clearance Officer: Phadrea Ponds, (970) 226-9445.

Dated: October 6, 2009.
Brenda Pierce,
Program Coordinator, USGS Energy Resources Program.

[FR Doc. E9-24534 Filed 10-9-09; 8:45 am]

BILLING CODE 4311-AM-P